DEPARTMENT OF COMMERCE

National Oceanic and Atmospheric Administration

[I.D. 062606B]

Marine Mammals; File No. 978-1567

AGENCY: National Marine Fisheries Service (NMFS), National Oceanic and Atmospheric Administration (NOAA), Commerce.

ACTION: Issuance of permit amendment.

SUMMARY: Notice is hereby given that Paul Nachtigall, Ph.D., University of Hawaii at Manoa, Hawaii Institute of Marine Biology, P.O. Box 1346, Kaneohe, Hawaii 96744, has been issued an amendment to scientific research Permit No. 978-1567-01.

ADDRESSES: The amendment and related documents are available for review upon written request or by appointment in the following office(s):

Permits, Conservation and Education Division, Office of Protected Resources, NMFS, 1315 East-West Highway, Room 13705, Silver Spring, MD 20910; phone (301)713-2289; fax (301)427-2521; and

Pacific Islands Region, NMFS, 1601 Kapiolani Blvd., Rm 1110, Honolulu, HI 96814-4700; phone (808)973-2935; fax (808)973-2941.

FOR FURTHER INFORMATION CONTACT: Andrew Wright or Amy Sloan, (301)713-2289.

SUPPLEMENTARY INFORMATION: The requested amendment has been granted under the authority of the Marine Mammal Protection Act of 1972, as amended (16 U.S.C. 1361 et seq.), and the Regulations Governing the Taking and Importing of Marine Mammals (50 CFR part 216).

This amendment (Permit No. 978-1567-02) extends the expiration date of the permit from June 30, 2006 to June 30, 2007.

In compliance with the National Environmental Policy Act of 1969 (42 U.S.C. 4321 et seq.), a final determination has been made that the activity proposed is categorically excluded from the requirement to prepare an environmental assessment or environmental impact statement.

Dated: June 26, 2006.
P. Michael Payne,
Chief, Permits, Conservation and Education Division, Office of Protected Resources, National Marine Fisheries Service.

[FR Doc. E6-10327 Filed 6-29-06; 8:45 am]

BILLING CODE 3510-22-S